DEPARTMENT OF LABOR

Bureau of Labor Statistics

Information Collection Activities; Comment Request

AGENCY: Bureau of Labor Statistics, Department of Labor.

ACTION: Notice of information collection; request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the proposed new collection, “BLS Wage Records Data Application.” A copy of the proposed information collection request can be obtained by contacting the individual listed below in the Addresses section of this notice.

DATES: Written comments must be submitted to the office listed in the Addresses section of this notice on or before July 7, 2025.

ADDRESSES: Send comments to Erin Good, BLS Clearance Officer, Division of Management Systems, Bureau of Labor Statistics, by email to BLS_PRA_Public@bls.gov.

FOR FURTHER INFORMATION CONTACT: Erin Good, BLS Clearance Officer, at 202-691-7628 (this is not a toll free number). (See Addresses section.)

SUPPLEMENTARY INFORMATION:

I. Background

The BLS Quarterly Census of Employment and Wages (QCEW) Program produces a comprehensive tabulation of employment and wage information for workers covered by State unemployment insurance laws and is a virtual census of payroll employment. The BLS produces publicly available files from the QCEW data that include information on the number of establishments, monthly employment, and quarterly wages, by industry, at the 6-digit North American Industry Classification System (NAICS) level, by county by ownership sector, for the entire United States. QCEW data have broad significance in evaluating labor trends and major industry developments. They are used in time series analyses, industry comparisons, and in special studies such as analyses of wages by size of establishment. The program also produces data necessary to both the Employment and Training Administration (ETA) and various State employment security agencies in administering the employment security program.

The QCEW Program contains no individual wage records data; however, the BLS has started a program to exchange data about the employment and wages of individuals that was not previously provided from employers or State UI programs under the QCEW. The program promotes the interchange of information, from participating States who have entered into MOUs with the BLS. The additional wage records data will be compiled into a multi-state longitudinal database and the data will be used to improve existing BLS data products and to explore the creation of new ones. The longitudinal database will allow for research on outcomes of specified cohorts. This type of research answers questions of, for example outcomes for people who receive job training assistance. In addition, compiling a longitudinally linked multi-state database will also provide State partners with limited out-of-state wage records for the purpose of economic and statistical research and further State administration of Workforce Innovation and Opportunity Act (WIOA), 29 U.S.C. chapter 32, reporting requirements.

To provide wage records information to participating States, the BLS must collect certain information from the States. This information collection allows the BLS to obtain the details necessary for providing accurate data to participating States.

II. Current Action

Office of Management and Budget clearance is being sought for a new collection that will allow States participating in the Bureau of Labor Statistics (BLS) Unemployment Insurance (UI) Wage Records Data Sharing Program to request data from other participating States for statistical research.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Title of Collection: BLS Wage Records Data Application.

OMB Number: 1220-NEW.

Type of Review: New collection.

Affected Public: State governments.

Annual Number of Respondents: 20.

Frequency: Once.

Total Annual Responses: 20.

Average Time per Response: 10 minutes.

Estimated Annual Total Burden Hours: 3.33 hours.

Comments submitted in response to this notice will be summarized and/or included in the request for Office of Management and Budget approval of the information collection request; they also will become a matter of public record.

Signed on March 21, 2025.
Eric Molina,
Chief, Division of Management Systems, Branch of Policy Analysis.

[FR Doc. 2025-07757 Filed 5-2-25; 8:45 am]

BILLING CODE 4510-24-P